DEPARTMENT OF HEALTH AND HUMAN SERVICES

Office of the Secretary

Final PHS Policy for Instruction in the Responsible Conduct of Research

AGENCY: Office of the Secretary, HHS.

ACTION: Announcement of Final “PHS Policy for Instruction in the Responsible Conduct of Research.”

SUMMARY: The Office of Research Integrity (ORI) in collaboration with the Agency Research Integrity Liaison Officers for each of the Public Health Service (PHS) Operating Divisions, announced on July 21, 2000, (65 FR 45381) the availability for public comment of a Draft PHS Policy for Instruction in the Responsible Conduct of Research (RCR) for extramural institutions receiving PHS funds for research or research training. The comment period closed on September 21, 2000.

In response to public comment, ORI and the PHS agencies have made substantial revisions to the draft policy and hereby announce the final “PHS Policy on Instruction in the Responsible Conduct of Research.” The final policy, a summary of comments and revisions to the policy made in response thereto, a list of available resources for RCR education programs, and Frequently Asked Questions and Answers on the policy are located at <http://ori.hhs.gov> or may be obtained from ORI at 5515 Security Lane, Suite 700, Rockville, Maryland 20852, Phone: 301-443-5300. Public comments on the draft policy are available for public inspection on ORI's premises from Monday-Friday between 9 a.m. and 5 p.m. Please call ORI for an appointment time.

FOR FURTHER INFORMATION CONTACT: Barbara Bullman, J.D., Senior Program Analyst, Division of Education and Integrity, Office of Research Integrity, Rockwall II, Suite 700, 5515 Security Lane, Rockville, MD 20852, 301-443-5300.

Chris B. Pascal,
Director, Office of Research Integrity.

[FR Doc. 00-31152 Filed 12-6-00; 8:45 am]

BILLING CODE 4150-31-P